DEPARTMENT OF ENERGY

Federal Energy Regulatory Commission

Combined Notice of Filings #1

Take notice that the Commission received the following electric rate filings:

Docket Numbers: ER20-758-000.

Applicants: PJM Interconnection, L.L.C.

Description: § 205(d) Rate Filing: Original WMPA SA No. 5556; Queue No. AE1-123 to be effective 12/10/2019.

Filed Date: 1/9/20.

Accession Number: 20200109-5028.

Comments Due: 5 p.m. ET 1/30/20.

Docket Numbers: ER20-759-000.

Applicants: ISO New England Inc.

Description: Request for Limited Conditional Waiver of ISO-NE Tariff of Section III.13.1.10(b) of ISO New England Inc.

Filed Date: 1/8/20.

Accession Number: 20200108-5144.

Comments Due: 5 p.m. ET 1/29/20.

Docket Numbers: ER20-760-000.

Applicants: PJM Interconnection, L.L.C.

Description: § 205(d) Rate Filing: Orginal WMPA SA No. 5557; Queue No. AE2-057 to be effective 12/11/2019.

Filed Date: 1/9/20.

Accession Number: 20200109-5034.

Comments Due: 5 p.m. ET 1/30/20.

Docket Numbers: ER20-761-000.

Applicants: PJM Interconnection, L.L.C.

Description: § 205(d) Rate Filing: Amendment to SAs No. 5128, 5260, 5375, 5376, and 5377 to be effective 6/15/2018.

Filed Date: 1/9/20.

Accession Number: 20200109-5085.

Comments Due: 5 p.m. ET 1/30/20.

Docket Numbers: ER20-762-000.

Applicants: PacifiCorp.

Description: § 205(d) Rate Filing: Tri-State Master Installation, O M Agmt for Metering (Rev 3) to be effective 3/10/2020.

Filed Date: 1/9/20.

Accession Number: 20200109-5119.

Comments Due: 5 p.m. ET 1/30/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2020.
Nathaniel J. Davis, Sr.,
Deputy Secretary.

[FR Doc. 2020-00513 Filed 1-14-20; 8:45 am]

BILLING CODE 6717-01-P